NATIONAL CAPITAL PLANNING COMMISSION

Senior Executive Service; Performance Review Board; Members

AGENCY: National Capital Planning Commission.

ACTION: Notice of Members of Senior Executive Service Performance Review Board.

SUMMARY: Section 4314(c) of Title 5, U.S.C. (as amended by the Civil Service Reform Act of 1978) requires each agency to establish, in accordance with regulations prescribed by the Office of Personnel Management, one or more Performance Review Boards (PRB) to review, evaluate and make a final recommendation on performance appraisals assigned to individual members of the agency's Senior Executive Service. The PRB established for the National Capital Planning Commission also makes recommendations to the agency head regarding SES performance awards, rank awards and bonuses. Section 4314(c)(4) requires that notice of appointment of Performance Review Board members be published in the Federal Register.

The following persons have been appointed to serve as members of the Performance Review Board for the National Capital Planning Commission: Kent E. Baum, Jill Crumpacker, Patricia E. Gallagher, John Lennon, Lawrence Roffee, and Charles H. Schneider from May 11, 2006 to May 11, 2008.

FOR FURTHER INFORMATION CONTACT: Phyllis A. Vessels, Human Resources Specialist, National Capital Planning Commission, 401 Ninth Street, NW., Suite 500 North, Washington, DC 20004, (202) 482-7217.

Dated: May 10, 2006.
Barry S. Socks,
Chief Operating Officer.

[FR Doc. E6-7493 Filed 5-16-06; 8:45 am]

BILLING CODE 7520-01-P